INTERNATIONAL TRADE COMMISSION

[Investigations Nos. 701-TA-202 (Review) and 731-TA-103 and 514 (Review)]

Cotton Shop Towels From Bangladesh, China, and Pakistan

Determinations

On the Basis of the record ¹ developed in the subject five-year reviews, the United States International Trade Commission determines,² pursuant to section 751(c) of the Tariff Act of 1930 (19 U.S.C. 1675(c)) (the Act), that revocation of the existing antidumping duty orders on cotton shop towels from Bangladesh and China, and the existing countervailing duty order on cotton shop towels from Pakistan would be likely to lead to continuation or recurrence of material injury to an industry in the United States within a reasonably foreseeable time.

¹ The record is defined in sec. 207.2(f) of the Commission's Rules of Practice and Procedure (19 CFR § 207.2(f)).

² Commissioner Askey dissenting with regard to Bangladesh and Pakistan. Vice Chairman Marcia E. Miller and Commissioner Deanna Tanner Okun not participating.

Background

The Commission instituted these reviews on January 4, 1999 (64 FR 371) and determined on April 8, 1999, that it would conduct full reviews (64 FR 19195, April 19, 1999). Notice of the scheduling of the Commission's reviews and of a public hearing to be held in connection therewith was given by posting copies of the notice in the Office of the Secretary, U.S. International Trade Commission, Washington, DC, and by publishing the notice in the Federal Register on June 28, 1999 (64 FR 34679). The hearing was held in Washington, DC, on November 18, 1999, and all persons who requested the opportunity were permitted to appear in person or by counsel.

The Commission transmitted its determinations in these investigations to the Secretary of Commerce on January 21, 2000. The views of the Commission are contained in USITC Publication 3267 (January, 2000), entitled Cotton Shop Towels from Bangladesh, China, and Pakistan (Invs. Nos. 701-TA-202 (Review) and 731-TA-103 and 514 (Review).

By order of the Commission.
Issued: January 27, 2000.
Donna R. Koehnke,
Secretary.

[FR Doc. 00-2325 Filed 2-2-00; 8:45 am]

BILLING CODE 7020-02-P